DEPARTMENT OF COMMERCE

Foreign-Trade Zones Board

[B-34-2024]

Foreign-Trade Zone (FTZ) 29, Notification of Proposed Production Activity; Catalent Pharma Solutions, LLC (Catalent); (Nonsteroidal Antiandrogen Tablets); Winchester, Kentucky

Catalent submitted a notification of proposed production activity to the FTZ Board (the Board) for its facility in Winchester, Kentucky within FTZ 29. The notification conforming to the requirements of the Board's regulations (15 CFR 400.22) was received on June 11, 2024.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include: nonsteroidal antiandrogen tablets (duty-free).

The proposed foreign-status materials/components include: apalutamide (active pharmaceutical ingredient) (duty rate of 6.5%).

Public comment is invited from interested parties. Submissions shall be addressed to the Board's Executive Secretary and sent to: ftz@trade.gov. The closing period for their receipt is July 31, 2024.

A copy of the notification will be available for public inspection in the “Online FTZ Information System” section of the Board's website.

For further information, contact Kolade Osho at Kolade.Osho@trade.gov.

Dated: June 14, 2024.
Elizabeth Whiteman,
Executive Secretary.

[FR Doc. 2024-13534 Filed 6-20-24; 8:45 am]

BILLING CODE 3510-DS-P